DEPARTMENT OF HOMELAND SECURITY

U.S. Citizenship and Immigration Services

[CIS No. 2427-07; DHS Docket No. USCIS-2007-0054]

RIN No. 1615-ZA62

Announcement of a Stakeholder Meeting on the Evaluation of E-Verify

AGENCY: U.S. Citizenship and Immigration Services, DHS.

ACTION: Notice of meeting.

SUMMARY: The E-Verify program, formerly Basic Pilot, is an online tool that allows participating employers to confirm the employment eligibility of their newly hired employees, regardless of citizenship, to help maintain a stable, legal workforce. The purpose of this Notice is to announce to interested members of the public a stakeholder meeting on the evaluation of the E-Verify Program to identify program strengths and weaknesses from multiple perspectives and to assist the evaluation staff in prioritizing research topics.

Date and Time: The meeting will be held on Tuesday, November 27, 2007, from 8:30 a.m. to 5 p.m.

ADDRESSES: The meeting will be held at the Washington Court Hotel, 525 New Jersey Avenue, NW., Washington, DC 20001.

FOR FURTHER INFORMATION CONTACT: Sara Speckhard, U.S. Citizenship and Immigration Services (USCIS), Department of Homeland Security, Office of Policy & Strategy, 20 Massachusetts Avenue, NW., Room 4012, Washington, DC 20529. Telephone: (202) 272-1470. Research contact: Ms. Marsha Lyons, Westat, 1650 Research Boulevard, Rockville, MD 20850. Telephone: (301) 517-4050, Fax: (301) 294-3992. E-mail: MarshaLyons@westat.com.

SUPPLEMENTARY INFORMATION: On September 15, 1997, the legacy Immigration and Naturalization Service (INS) published a notice in the Federal Register describing pilot programs that were required by section 403 of the Illegal Immigration Reform and Immigrant Responsibility Act of 1996 (IIRIRA). On December 20, 2004, the U.S. Citizenship and Immigration Services (USCIS) announced the extension of one of these programs, the Basic Pilot, to November 30, 2008. Renamed E-Verify, the current program constitutes an online modification of the Basic Pilot and allows participating employers to confirm the employment eligibility of their newly hired employees regardless of citizenship to help maintain a stable, legal workforce. E-Verify is operated jointly by USCIS and the Social Security Administration. An evaluation of the current E-Verify program is being conducted by Westat, Inc. This notice announces a public meeting to seek stakeholder input regarding the E-Verify program.

Summary of Agenda

• Introductions and Purpose.

• Update on E-Verify.

• Overview of the Key Findings of the FY2007 evaluation and the current evaluation goals.

• Break-out group discussions to address topics such as using biometrics for verification, resolving tentative confirmations, timing of employee verifications, and focusing on specific types of employers (i.e., designated agents, employers using designated agents, employment agencies and temporary help agencies, inactive employers).

• Reports from break-out groups.

• Questions and comments.

Public Participation

The meeting is open to the public, but advance notice of attendance is requested to ensure adequate seating. In the event that requests for attendance exceed available space, it may not be possible to honor all requests. Persons planning to attend should notify Ms. Lyons at least 5 days prior to the meeting.

Dated: November 1, 2007.
Jonathan R. Scharfen,
Deputy Director, U.S. Citizenship and Immigration Services.

[FR Doc. E7-21829 Filed 11-6-07; 8:45 am]

BILLING CODE 4410-10-P